DEPARTMENT OF TRANSPORTATION

Federal Railroad Administration

[Docket No. FRA-2016-0002-N-20]

Proposed Agency Information Collection Activities; Comment Request

AGENCY: Federal Railroad Administration (FRA), Department of Transportation (DOT).

ACTION: Notice and comment request.

SUMMARY: Under the Paperwork Reduction Act of 1995 (PRA), this notice announces that FRA is forwarding the new Information Collection Request (ICR) abstracted below to the Office of Management and Budget (OMB) for review and comment. The ICR describes the information collection and its expected burden. On June 3, 2016, FRA published a notice providing a 60-day period for public comment on the ICR.

DATES: Comments must be submitted on or before October 24, 2016.

FOR FURTHER INFORMATION CONTACT: Mr. Robert Brogan, Information Collection Clearance Officer, Office of Railroad Safety, Regulatory Analysis Division, RRS-21, Federal Railroad Administration, 1200 New Jersey Avenue SE., Mail Stop 25, Washington, DC 20590 (Telephone: (202) 493-6292); or Ms. Kim Toone, Information Collection Clearance Officer, Office of Administration, Office of Information Technology, RAD-20, Federal Railroad Administration, 1200 New Jersey Avenue SE., Mail Stop 35, Washington, DC 20590 (Telephone: (202) 493-6132). (These telephone numbers are not toll free.)

SUPPLEMENTARY INFORMATION: The PRA, 44 U.S.C. 3501-3520, and its implementing regulations, 5 CFR part 1320, require Federal agencies to issue two notices seeking public comment on information collection activities before OMB may approve paperwork packages. 44 U.S.C. 3506, 3507; 5 CFR 1320.5, 1320.8(d)(1), and 1320.12. On June 3, 2016, FRA published a 60-day notice in the Federal Register soliciting comment on the ICR for which it is now seeking OMB approval. See 81 FR 35814. FRA received no comments in response to this notice.

Before OMB decides whether to approve these proposed collections of information, it must provide 30 days for public comment. 44 U.S.C. 3507(b); 5 CFR 1320.12(d). Federal law requires OMB to approve or disapprove paperwork packages between 30 and 60 days after the 30-day notice is published. 44 U.S.C. 3507(b)-(c);

5 CFR 1320.12(d); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summary below describes the ICR and its expected burden. FRA is submitting the new request for clearance by OMB as the PRA requires.

Title: Survey of Plant and Insular Tourist Railroads Subject to FRA Bridge Safety Standards (49 CFR part 237).

OMB Control Number: 2130-New.

Abstract: FRA's Bridge Safety Standards (49 CFR part 237) require all owners of railroad track with a gage of 2 feet or more supported by a bridge to comply with the regulations. This includes track owners with bridges located within an industrial installation (plant) that is not part of the general railroad system of transportation (general system), but over which railroad equipment is moved by a general system railroad. To identify track owners subject to the requirements of part 237, Bridge Safety Standards, FRA relies on the railroad accident/incident reports that FRA regulations (49 CFR part 225, Railroad Accidents/Incidents: Reports Classification, and Investigations) require railroads to file monthly. However, plant railroads and insular tourist railroads are exempt from 49 CFR part 225 reporting requirements.

Under the ICR, FRA would request any railroad serving a plant and moving railroad equipment over bridges within the plant, or the plant itself, to advise FRA by email that there are railroad bridges within the installation potentially subject to FRA Bridge Safety Standards. FRA would also request insular tourist railroads, whose tracks are supported by one or more bridges, to advise FRA by email about these bridges. The email notifications should include the name of the installation or insular tourist railroad, address, including city and State, contact name, telephone number, and email address. This survey will be ongoing with initial approval requested for 3 years.

FRA desires to identify plant and insular tourist railroads that may be subject to part 237 requirements, but are exempt from part 225 reporting requirements, to analyze the risks these entities may pose to railroad bridge safety and to aid in planning bridge safety oversight activities and allocating resources.

Type of Request: Approval of a new information collection.

Affected Public: Freight railroads, industrial installations (plants), insular tourist railroads.

Form(s): N/A.

Total Estimated Annual Responses: 210.

Total Estimated Annual Burden: 53 hours.

Addressee: Send comments regarding these information collections to the Office of Information and Regulatory Affairs, Office of Management and Budget, 725 17th Street NW., Washington, DC 20503, Attention: FRA Desk Officer. Comments may also be sent via email to OMB at the following address: oira_submissions@omb.eop.gov.

Comments are invited on the following: Whether the proposed collections of information are necessary for DOT to properly perform its functions, including whether the information will have practical utility; the accuracy of DOT's estimates of the burden of the proposed information collections; ways to enhance the quality, utility, and clarity of the information to be collected; and ways to minimize the burden of the collections of information on respondents, including the use of automated collection techniques or other forms of information technology.

A comment to OMB is best assured of having its full effect if OMB receives it within 30 days of publication of this notice in the Federal Register.

Authority: 44 U.S.C. 3501-3520.

Issued in Washington, DC, on September 20, 2016.
Patrick T. Warren,
Acting Executive Director.

[FR Doc. 2016-22942 Filed 9-22-16; 8:45 am]

BILLING CODE 4910-06-P